DEPARTMENT OF JUSTICE

Immigration and Naturalization Service

[INS No. 2154-01]

Implementation of Revised Application for Naturalization, Form N-400

AGENCY: Immigration and Naturalization Service, Justice.

ACTION: Notice.

SUMMARY: This notice announces the implementation of a revised Application for Naturalization, Form N-400, which is used by applicants to obtain United States citizenship. The revised form includes recent legislative changes, streamlines the data collection process, clarifies the information required, and eliminates some obsolete questions. This notice advises the public that the revised Form N-400 is available for filing purposes and as of January 1, 2002, will become the only edition acceptable for filing.

EFFECTIVE DATES: The revised Form N-400, bearing an edition date of May 31, 2001, became acceptable for filing purposes on August 1, 2001. No earlier editions of Form N-400 will be accepted for filing after December 31, 2001.

FOR FURTHER INFORMATION CONTACT: Gerard Casale, Business process and Reengineering Division, Immigration and Naturalization Service, 801 I Street, NW., Washington, DC 20536, telephone (202) 514-0788.

SUPPLEMENTARY INFORMATION:

Background

This is the first significant revision of the Application for Naturalization, Form N-400, since 1991. The need for an updated naturalization application was a key finding of a naturalization reengineering project begun in 1997. Immigration and Naturalization Service (Service) staff, applicant focus groups, and community-based organizations contributed to redesigning the form to incorporate recent naturalization requirements and benefits while at the same time making the application more understandable and streamlining the naturalization process. The Service published several Federal Register notices to exhibit various drafts of the revised Form N-400 and to solicit public comments. The notices appeared in the Federal Register on: October 16, 1998, at 63 FR 55643; June 28, 2000, at 65 FR 39926; January 8, 1999, at 64 FR 1219, and on October 26, 2000, at 65 FR 64239. The Service received written comments from over 20 organizations and individuals, as well as comments from Service personnel and congressional staff. All of the comments were considered in the process of revising the form.

What Additional Statutory Provisions Are Incorporated Into the Revised Form N-400?

The Application for Naturalization, Form N-400, has been revised to incorporate various statutory provisions that either were not integrated into the previous application form or were enacted after the last major edition of the Form N-400 in 1991. These revision include:

• Section 322 of the Act amendments: Removing the need for children under age 18 to file the Form N-400 to obtain citizenship.

• Section 334 of the Act: Provisions for early filing by certain applicants under sections 316(a) and 319(a) of the Act.

• Provisions for requesting disability accommodations as permitted by the Rehabilitation Act of 1973.

• Section 312(b) of the Act: Provisions for disability waivers.

• Questions relating to terrorism and persecution under amended sections 219 and 212(a)(3)(B) of the Act.

• Questions relating to applicants in rescission and removal proceedings.

• Questions relating to illegal voting or registration to vote, and false claims to U.S. citizenship.

• Provisions for waiving the Oath of Allegiance in cases of physical or developmental disability or mental impairment (Pub. L. 106-448 enacted on November 6, 2000).

How Has the New Form N-400 Improved the Data Collection Process?

The new Form N-400 consolidates and facilitates the collection of information that previously was being captured elsewhere in the process. For example, applicants seeking a name change as part of naturalization can now enter that request directly on Part 1.D. of the Form N-400. There also is a new section (Part 5) that captures biometric data required for criminal records search requests sent to the Federal Bureau of Investigation (FBI), thus saving time and avoiding the necessity of having to collect this information later at an Application Support Center. Other changes in the revised Form N-400 include space for a 2-D (two dimensional) bar code and space for the applicant's A number on every page, which will facilitate the Service's processing of the Form N-400 and ensure that every page of the application is identified.

The revised Form N-400 incorporates additional categories of information that were previously being collected by the Service through separate attachments assembled by the applicants themselves. Such categories include information regarding marital history, children, travel outside the United States, and criminal offenses and arrests. The new Form N-400 captures more of the necessary information on the form at the beginning of the application process, thus making the data collection more efficient and timely.

Lastly, the Service has revised Form N-400 to help naturalization applicants better understand the requirements for filing the form, as well as the kinds of information the Service requires applicants to submit to determine their eligibility for naturalization.

How Has the Structure of the Application for Naturalization Changed?

• Smoother Flow. To make it easier to complete the Form N-400, related information (such as the applicant's current name, name of the Permanent Resident Card, and “other” names) is grouped together. The format follows the sequence of a normal naturalization interview wherever practicable.

• Adjustments in content. As previously mentioned, some items implementing recent legislation have been added. In addition, obsolete material has been removed, e.g., regarding the naturalization of children.

Why Does the New Edition Have More Pages Than the Previous Form N-400?

• Better Instructions. The new Form N-400 Instructions address more topics and have been simplified to make the application easier to complete. Readers seeking more details also can now refer to the new companion document, A Guide to Naturalization, which is included in every new Form N-400 packet. The Guide is now available in the following languages: English, Spanish, Chinese, Vietnamese, and Tagalog.

• Space provided for up-front collection of information. Additional space has been provided for the orderly capture of information previously collected elsewhere. As a result the total number of pages increased. However, the changes will improve quality and timeliness in data collection, and reduce continuances to obtain missing information, thus leading to better decisions being made.

• New eligibility and benefits items. Another factor increasing the length of the application was the addition of legislatively mandated elements mentioned above.

• More precise questions. The revised application clarifies issues by reorganizing the topic headings and by breaking up lengthy and complex questions into several simpler and more direct ones.

Where Can the New Edition of the Application for Naturalization, Form N-400, Be Obtained?

Applicants can obtain a revised edition of Form N-400 by calling the Service Forms Line at 1-800-870-3676. The new edition also can be viewed, filled, and printed on the Service web Site at http://www.ins.usdoj.gov.

What Is the Service Policy Regarding Processing Older Editions of the Form N-400:

Beginning January 1, 2002, only the May 31, 2001 edition of Form N-400 will be valid for filing an application for naturalization, and all prior editions will become obsolete. Any prior editions that Service Centers receive on or after January 1, 2002 will not be processed for filing.

Stocks of the new May 31, 2001, edition of Form N-400 have been printed and are being made available to the public. To prevent applicants from mistakenly submitting earlier editions after they become obsolete, any pre-2001 editions on hand should be discarded and replaced with the new May 31, 2001, edition.

However, the Service will continue to process prior editions of the Form N-400 until December 31, 2001, to allow more time for the public to obtain the new May 31, 2001, edition of the Form N-400. It must be noted that earlier editions of the Form N-400 will be processed only if they were filed prior to January 1, 2002.

Dated: October 5, 2001.
James W. Ziglar,
Commissioner, Immigration and Naturalization Service.

[FR Doc. 01-28755 Filed 11-15-01; 8:45 am]

BILLING CODE 4410-10-M